DEPARTMENT OF TRANSPORTATION

Research and Special Programs Administration

Pipeline Safety: Definition of Onshore Gas Gathering Lines

AGENCY: Research and Special Programs Administration (RSPA), DOT.

ACTION: Notice; issuance of advisory bulletin.

SUMMARY: RSPA is issuing this advisory bulletin to owners and operators of natural gas pipeline facilities to confirm the standards the Research and Special Programs Administration Office of Pipeline Safety (OPS) uses to classify natural gas gathering lines.

ADDRESSES: This document can be viewed at the OPS home page at: http://ops.dot.gov.

FOR FURTHER INFORMATION CONTACT: L.E. Herrick, (202) 366-5523, or by e-mail at: le.herrick@rspa.dot.gov.

SUPPLEMENTARY INFORMATION:

I. Background

On March 11, 1999, OPS announced an electronic public discussion forum and subsequent written comment period to provide OPS public input in deciding whether and how to modify the definition in 49 CFR 192 of a natural gas gathering line. (Docket No. RSPA-98-4868, Notice 1: 64 FR 12147.) A coalition lead by the American Petroleum Institute (API) submitted a proposed definition, which was supplemented by API Recommended Practices 80; Guidelines for the Definition of Onshore Gas Gathering Lines (RP-80).

OPS has reviewed the document but has not yet determined whether it will adopt the recommended practices into regulation. Until OPS re-defines a gas gathering line, it will continue to classify those lines according to the standards it has used in the past.

II. Advisory Bulletin (ADB-02-06)

To: Owners and Operators of Natural Gas Pipeline Facilities.

Subject: Standards for classifying natural gas gathering lines.

Purpose: To inform operators of the standards OPS currently uses to classify natural gas gathering lines.

Advisory: Standards for classification of natural gas gathering lines.

Until OPS completes its rulemaking to better define natural gas gathering lines (Docket No. RSPA-98-4868), OPS will continue to classify lines according to the four-point standard established through court precedent and historical interpretation. OPS will also continue to classify lines that pose unique difficulties of classification on a case-by-case basis. In brief, in the most common situation, gathering begins at or near the well head. In most cases, the gathering process terminates at the outlet of a processing plant. A processing plant is defined by the extraction of heavy ends from the natural gas. If there is no upstream processing plant, the gathering process terminates at the outlet of a pipeline compressor. For the purposes of determining the termination point of the gas gathering process, OPS does not consider a well head compressor (field compressor) to be a pipeline compressor. If there is no processing plant or pipeline compressor, the point at which the gathering process ends is where two or more well pipelines converge. If none of these points applies, the gas gathering termination point is where there is a change in ownership of the pipeline. These points are determined on a case-by-case basis considering the location of the pipeline in relation to population density, major traffic areas, and environmentally sensitive areas.

To summarize, OPS considers the termination of gas gathering to be:

(1) The outlet of a processing plant that extracts heavy ends from the natural gas;

(2) The outlet of a pipeline compressor (not including a well head compressor);

(3) The point where two or more well pipelines converge; or

(4) The point where there is a change in ownership of the pipeline.

Issued in Washington, D.C. on October 10, 2002.
Stacey L. Gerard,
Associate Administrator for Pipeline Safety.

[FR Doc. 02-26464 Filed 10-17-02; 8:45 am]

BILLING CODE 4910-60-P